SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Office Building, Room 10235, 725 17th St., NW, Washington, DC 20503, Fax: 202-395-6974.

(SSA), Social Security Administration, DCFAM, Attn: Reports Clearance Officer, 1338 Annex Bldg., 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454, or by writing to the address listed above.

1. State Partnership Initiative (SPI) Cooperative Agreements—0960-0610. Executive Order 13078 dated March 13, 1998, Increasing Employment of Adults with Disabilities. This action orders that a National Task Force be established to create a coordinated and aggressive national policy to bring adults with disabilities into gainful employment at a rate that is as close as possible to that of the general adult population. E.O. 13078 specifies that the Task Force “evaluate and, where appropriate, coordinate and collaborate on, research and demonstration priorities of Task Force member agencies related to employment of adults with disabilities.” To comply with the EO, SSA released cooperative agreement announcements in 1998 to approximately 650 State agencies nationwide to conduct demonstration projects that assist States in developing service delivery models that increase the rates of gainful employment of people with disabilities. Eighteen State agencies have been selected to participate in the demonstration projects. SSA has employed a monitoring and technical assistance contractor to collect information from the State awardees' databases on behalf of SSA. The Contractor will use the information to evaluate whether and to what extent the service delivery models achieve the overall goals of the demonstration projects and will report project results to SSA. SSA will use the results to conduct a net outcome evaluation to determine the long-term effectiveness of the interventions. Following is a table that outlines the public reporting burden of the 18 State agencies for this project:

Type of Request: Revision of an OMB-approved Information Collection(s).

Title of collection | Number of annual responses | Frequency of response | Average burden per response | Estimated annual burden
Demonstration Site Form | 16 (electronic) | One Time | 1 minute | 1 hour.
| 2 (manual) | One Time | 1 minute | 1 hour.
Participant Demographic Data Form | 3,080 (electronic) | One Time | 15 minutes | 770 hours.
| 300 (manual) | One Time | 20 minutes | 100 hours.
Participant Employment Data Form | 3,080 (electronic) | One Time | 5 minutes | 257 hours.
| 300 (manual) | One Time | 7 minutes | 35 hours.
Participant Update Form | 12,320 (electronic) | Quarterly | 4 minutes | 821 hours.
| 1,200 (manual) | Quarterly | 5 minutes | 100 hours.
Change in Employment Status | 1,540 (electronic) | Completed only if | 3 minutes | 77 hours.
| 150 (manual). | employment changes | 4 minutes. | 10 hours.
State Quarterly & State Semiannual & Annual Report | 72 | Quarterly | 15 | 18 Hours.
| 36 | Semiannual | minutes | 9 Hours.
| 18 | Annual | for each report | 4 Hours.
Stakeholder Interviews | 50 | Varies per Stakeholder | 10 minutes | 8 hours.
Total | 12,024 |  |  | 2,211 Hours.

2. Claimant's Recent Medical Treatment—0960-0292. The information collected on Form HA-4631 is used to provide an updated medical history for a disability claimant who requests a hearing and to afford claimants their statutory right to a hearing and decision under the Social Security Act. This information is necessary to assure that the Social Security Administration has the most recent medical information before making a final determination on a claim. The respondents are claimants requesting hearings on entitlement to benefits based on disability under title II (Old-Age, Survivors and Disability Insurance) and/or title XVI (Supplemental Security Income) of the Social Security Act.

Type of Request: Extension of an OMB-approved information collection.

Number of Respondents: 309,490.

Frequency of Response: 1.

Average Burden Per Response: 10 minutes.

Estimated Annual Burden: 51,582 hours.

3. Report to U.S. SSA by Person Receiving Benefits for a Child or Adult Unable to Handle Funds; & Report to U.S. SSA-0960-0049. SSA needs the information on Forms SSA-7161-OCR-SM and SSA-7162-OCR-SM to determine continuing entitlement to Social Security benefits and correct benefit amounts for beneficiaries outside the U.S., as well as to monitor the performance of representative payees outside the U.S. The respondents are individuals outside the U.S. who are receiving benefits on their own behalf (or for someone else) under title II of the Social Security Act.

Type of Request: Extension of an OMB-approved information collection(s):

| SSA-7161-OCR-SM | SAA-7162-OCR-SM
Number of Respondents | 30,000 | 205,000
Frequency of Response | 1 | 1
Average Burden Per Response (minutes) | 15 | 5
Estimated Annual Burden (hours) | 7,500 | 17,083

4. Partnership Questionnaire—0960-0025—20 CFR, Subpart K, 404.1080-.1082. Form SSA-7104 is used to establish several aspects of eligibility for benefits, including accuracy of reported partnership earnings, the veracity of a retirement, and lag earnings where they are needed for insured status. The respondents are applicants for Old Age, Survivors and Disability Insurance Benefits.

Type of Request: Extension of an OMB-approved information collection(s):

Number of Respondents: 12,350.

Frequency of Response: 1.

Average Burden Per Response: 30 minutes .

Estimated Annual Burden: 6,175 hours.

5. SSI-Quality Review Case analysis-0960-0133.

The form SSA-8508 is used in a personal interview with a sample of Supplemental Security Income (SSI) recipients and covers all elements of SSI eligibility. The information is used to assess the effectiveness of SSI policies and procedures and to determine payment accuracy rates. The respondents are SSI recipients.

Type of Request: Extension of an OMB-approved information collection.

Number of Respondents: 12,000.

Frequency of Response: 1.

Average Burden Per Response: 60 minutes.

Estimated Annual Burden: 12,000.

6. SSI Wage Reporting Pilot—0960-NEW. SSA regulations at 20 CFR 416.701-732 require that recipients of Supplemental Security Income (SSI) report changes, such as change in income, resources and living arrangements, that could affect the receipt and amount of payments. Currently, SSI recipients report changes on form SSA-8150, Reporting Events—SSI, or to a SSA teleservice representative through SSA's toll-free telephone number or they visit their local Social Security Office. SSA is proposing to conduct a 6-month SSI wage reporting pilot to test a different method of collecting the information. During the pilot, a sample of individuals who need to report a change in earned income would call an SSA toll-free telephone number which will allow them to either speak their report (voice recognition technology) or key in the information using the telephone key pad. At the conclusion of the pilot, SSA will evaluate whether this is an effective method of reporting the information.

Number of Respondents: 4,000.

Frequency of Response: 6.

Average Burden Per Response: 5 minutes.

Estimated Annual Burden: 2000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Statement of Marital Relationship (by One of the Parties)—20 CFR, Subpart H 404.726—0960-0038. SSA uses the information collected on Form SSA-754 to determine whether the conditions for establishing a common-law marriage under state law are met. The respondents are applicants for spouse's benefits.

Type of Request: Extension of an OMB-approved information collection.

Number of Respondents: 30,000.

Frequency of Response: 1.

Average Burden Per Response: 30 minutes.

Estimated Annual Burden: 15,000 hours.

2. Marital Relationship Questionnaire—20 CFR, Subpart R, 416.1826—0960-0460. The information collected on Form SSA-4178 is needed by SSA to determine whether unrelated individuals of the opposite sex who are living together, and present themselves to the public as husband and wife, should be paid as a couple or two eligible individuals. The information is used to determine whether correct payment is being made to Supplemental Security Income (SSI) couples and individuals. The respondents are applicants for and recipients of SSI who are living together in a questionable relationship.

Type of Request: Extension of an OMB-approved information collection.

Number of Respondents: 5,100.

Frequency of Response: 1.

Average Burden Per Response: 5 minutes.

Estimated Annual Burden: 425 hours.

3. Statement of Living Arrangements, In-Kind Support and Maintenance—20 CFR, Subpart K, 416.1130-.1148—0960-0174. Form SSA-8006 provides a national uniform vehicle for collecting information from SSI applicants and recipients about whether they receive income from in-kind support and maintenance. Responses are used to determine eligibility for SSI benefits. The respondents are individuals applying for SSI or whose eligibility is being reevaluated.

Type of Request: Extension of an OMB-approved information collection.

Number of Respondents: 438,400.

Frequency of Response: 1.

Average Burden Per Response: 7 minutes.

Estimated Annual Burden: 51,147 hours.

4. Application for Widow's or Widower's Insurance Benefits—20 CFR, Subpart D, 404.335—.338—0960-0004. SSA uses the information collected on the Form SSA-10-BK to determine if the applicant meets the statutory and regulatory conditions for entitlement to widow(er)'s benefits. The respondents are applicants for Widow(er)'s benefits.

Type of Request: Extension of an OMB-approved information collection.

Number of Respondents: 288,580.

Frequency of Response: 1.

Average Burden Per Response: 15 minutes.

Estimated Annual Burden: 72,145 hours.

5. Student Reporting Form—20 CFR, Subpart B, 404, and 20 CFR, Subparts D & E 422—0960-0088. Form SSA-1383 is used by Social Security student beneficiaries to report events or changes that may affect continuing entitlement to these benefits. The respondents are Social Security Student Beneficiaries.

Type of Request: Extension of an OMB-approved information collection.

Number of Respondents: 75,000.

Frequency of Response: 1.

Average Burden Per Response: 6 minutes.

Estimated Annual Burden: 7,500 hours.

6. Voluntary Customer Surveys in Accordance with E.O. 12862 within the Social Security Administration—0960-0526. These voluntary customer surveys will be used to ascertain customer satisfaction with the Social Security Administration in terms of timeliness, appropriateness, access, and other measures of quality service. Surveys will involve individuals that are the direct or indirect beneficiaries of SSA services. The average burden per response for these activities is estimated to range from 5 minutes for a simple comment card, to 2 hours for participation in a focus group.

Type of Request: Extension of an OMB-approved information collection.

FY 2003:

Number of Respondents: 1,526,892.

Frequency of Response: 1.

Average Burden Per Response: Varies (5 minutes to 2 hours).

Estimated Annual Burden: 136,013 hours.

FY 2004:

Number of Respondents: 1,527,732.

Frequency of Response: 1.

Average Burden Per Response: Varies (5 minutes to 2 hours).

Estimated Annual Burden: 136,028 hours.

FY 2005:

Number of Respondents: 1,169,592.

Frequency of Response: 1.

Average Burden Per Response: Varies (5 minutes to 2 hours).

Estimated Annual Burden: 136,013 hours.

7. Application for Supplemental Security Income—20 CFR, Subpart C, 416.301-.360—0960-0444. The information collected on Form SSA-8001-F5 is used to determine eligibility for Supplemental Security Income (SSI) and the amount of benefits payable. The respondents are applicants for SSI benefits.

Type of Request: Revision of an OMB-approved information collection.

Number of Respondents: 872,956.

Frequency of Response: 1.

Average Burden Per Response: 18 minutes.

Estimated Annual Burden: 261,887 hours.

8. Application for Supplemental Security Income—20 CFR, Subpart C, 416.305-.335—0960-0229. The information collected using Form SSA-8000-BK is needed and used to determine eligibility for Supplemental Security Income (SSI) and the amount of benefits payable. The respondents are applicants for SSI payments.

Type of Request: Revision of an OMB-approved information collection.

Number of Respondents: 1,249,933.

Frequency of Response: 1.

Average Burden Per Response: 40 minutes.

Estimated Annual Burden: 833,289 hours.

9. Application for Wife's or Husband's Insurance Benefits—20 CFR, Subpart D, 404.330-.333; Subpart G, 404.603—0960-0008. SSA needs and uses the information collected on Form SSA-2-F6 to determine if an applicant (including a divorced applicant) can be entitled to benefits as the spouse of the worker and the amount of the spouse's benefits. The respondents are applicants for wife's or husband's benefits, including those who are divorced.

Type of Request: Extension of an OMB-approved information collection.

Number of Respondents: 700,000.

Frequency of Response: 1.

Average Burden Per Response: 15 minutes.

Estimated Annual Burden: 175,000 hours.

10. Supplemental Security Income Claim Information Notice—20 CFR, Subpart B, 416.210—0960-0324. Form SSA-L8050 is used by SSA to ensure that all sources of potential income, which can be used to provide for the support and maintenance of an individual receiving SSI, are utilized. SSI is intended to supplement other income available to an individual. The respondents are applicants/recipients of SSI who may be eligible for benefits from public or private programs.

Type of Request: Extension of an OMB-approved information collection.

Number of Respondents: 7,500.

Frequency of Response: 1.

Average Burden Per Response: 10 minutes.

Estimated Annual Burden: 1,250 hours.

Dated: December 6, 2002.
Elizabeth A. Davidson,
Reports Clearance Officer, Social Security Administration.

[FR Doc. 02-31313 Filed 12-11-02; 8:45 am]

BILLING CODE 4191-02-P